NUCLEAR REGULATORY COMMISSION

[NUREG-1702, Final Report]

Standard Review Plan for the Review of a License Application for the Tank Waste Remediation System Privatization Project: Notice of Availability

AGENCY: Nuclear Regulatory Commission.

ACTION: Notice of availability.

SUMMARY: The Nuclear Regulatory Commission (NRC) is announcing the completion and availability of NUREG-1702, Final Report, entitled “Standard Review Plan for the Review of a License Application for the Tank Waste Remediation System Privatization (TWRS-P) Project.”

ADDRESSES: Copies of NUREG-1702, Final Report, may be obtained by writing to the Superintendent of Documents, U.S. Government Printing Office, P.O. Box 37082, Washington, DC 20402-9328. Copies are also available from the National Technical Information Service, 5285 Port Royal Road, Springfield, Virginia 22161. A copy of the document is available for inspection and/or copying for a fee in the NRC Public Document Room, 2120 L Street, NW (lower level), Washington, DC 20555-0001. A copy is also posted on the NRC's internet web site at http://www.nrc.gov/NRC/NUREGS/indexnum.html.

FOR FURTHER INFORMATION CONTACT: Michael Tokar, Division of Fuel Cycle Safety and Safeguards, Office of Nuclear Material Safety and Safeguards, U.S. Nuclear Regulatory Commission, Washington, DC 20555-0001. Telephone: (301) 415-7251.

SUPPLEMENTARY INFORMATION: On March 19, 1999 (64 FR 13613), NRC announced the availability of draft NUREG-1702, “Standard Review Plan for the Review of a License Application for the Tank Waste Remediation System Privatization (TWRS-P) Project,” and requested comments on it. This draft NUREG report was the first specific guidance developed for the NRC staff to review a possible future license application for immobilizing highly radioactive waste in underground tanks at the Department of Energy (DOE) reservation in Hanford, Washington.

If NRC were to receive a license application for a TWRS-P facility, it is anticipated that the application would be reviewed under 10 CFR part 70, Domestic Licensing of Special Nuclear Material. The NRC is currently considering revisions to 10 CFR part 70 and the associated standard review plan (SRP), draft NUREG-1520, “Standard Review Plan for the Review of a License Application for a Fuel Cycle Facility,” (see http://techconf.llnl.gov/cgi_bin/topics). To provide facility specific guidance for the review of a license application for a TWRS-P facility, the NRC simultaneously developed NUREG-1702.

At the present time, NRC is assisting DOE in developing an effective regulatory program for proposed licensing of a TWRS-P facility. NRC and DOE interactions during this initial phase are governed by a Memorandum of Understanding (MOU) signed January 1997. This MOU is currently undergoing revision.

NRC staff considered all public comments received in the preparation of the final NUREG report.

The final version of NUREG-1702, is now available for use by applicants, NRC license reviewers, and other NRC staff. This “standard review plan,” (SRP) provides guidance for the evaluation of health, safety, and environmental protection in a license application. Its principal purpose is to ensure quality and uniformity of staff reviews of the application and any later amendments to the license. In addition, it provides information about review acceptance criteria to interested members of the public and the regulated industry. Each SRP section addresses the regulations pertinent to specific technical matters, the acceptance criteria used by the staff, how the review is accomplished, and the conclusions that are appropriate for the Safety Evaluation Report.

Dated at Rockville, Maryland, this 31st day of January 2000.
For the Nuclear Regulatory Commission.
Michael F. Weber,
Director, Division of Fuel Cycle Safety and Safeguards, NMSS.

[FR Doc. 00-10661 Filed 4-27-00; 8:45 am]

BILLING CODE 7590-01-P